ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Pub. L. 107-252, the U.S. Election Assistance Commission (EAC) hereby causes to be published in the Federal Register material changes to the HAVA State plan previously submitted by Kentucky.

DATES: This notice is effective upon publication in the Federal Register.

FOR FURTHER INFORMATION CONTACT: Bryan Whitener, telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty states, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. EAC has not previously published an update to the Kentucky State plan.

The submission from Kentucky addresses material changes in the State budget of its previously submitted State plan and, in accordance with HAVA section 254(a)(12), provides information on how the State succeeded in carrying out its previous State plan. the submission addresses material changes to the budget based on the amount of funds actually received by the state and not on the authorized amounts. The revised state plan gives a detailed description of how the State has met the requirements of Title III as supporting documentation for a certification filed with the EAC under HAVA § 251(b)(2)(A).

Upon the expiration of thirty days from February 27, 2007, Kentucky will be eligible to implement the material changes addressed in the plan that is published herein, in accordance with HAVA section 254(a)(11)(C).

EAC notes that the plan published herein has already met the notice and comment requirements of HAVA section 256, as required by HAVA section 254(a)(11)(B). EAC wishes to acknowledge the effort that went into revising this State plan and encourages further public comment, in writing, to the State election official listed below.

Chief State Election Officials

Kentucky

Ms. Sarah Ball Johnson, Executive Director, Kentucky State Board of Elections, 140 Walnut Street, Frankfort, Kentucky 40601-3240, Phone: (502) 573-7100, Fax: (502) 573-4369, E-mail: Les.Fugate@ky.gov.

Thank you for your interest in improving the voting process in America.

Dated: February 16, 2007.
Donetta Davidson,
Chair, U.S. Election Assistance Commission.

BILLING CODE 6820-KF-P

[FR Doc. 07-865 Filed 2-26-07; 8:45 am]

BILLING CODE 6820-KF-C